DEPARTMENT OF AGRICULTURE

Agricultural Marketing Service

[Docket # AMS-FV-2007-0008; FV-06-310]

United States Standards for Grades of Florida Avocados

AGENCY: Agricultural Marketing Service, USDA.

ACTION: Reopening and extension of the comment period.

SUMMARY: Notice is hereby given that the comment period on possible revisions to the United States Standards for Grades of Florida Avocados is reopened and extended.

DATES: Comments must be received by August 13, 2007.

ADDRESSES: Interested persons are invited to submit written comments on the Internet at: http://www.regulations.gov or the Standardization Section, Fresh Products Branch, Fruit and Vegetable Programs, Agricultural Marketing Service, U.S. Department of Agriculture; 1400 Independence Ave. SW., Room 1661 South Building, Stop 0240, Washington, DC 20250-0240; or fax (202) 720-8871. Comments should make reference to the dates and page number of this issue of the Federal Register and will be made available for public inspection in the above office during regular business hours.

FOR FURTHER INFORMATION CONTACT: Vincent J. Fusaro, Standardization Section, Fresh Products Branch, (202) 720-2185. The United States Standards for Grades of Florida Avocados are available through the Fresh Products Branch Web site at: http://www.ams.usda.gov/standards/stanfrfv.htm.

SUPPLEMENTARY INFORMATION: A notice was published in the Federal Register on March 29, 2007, (72 FR 14709), requesting comments on the possible revision of the United States Standards for Grades of Florida Avocados. The proposed revision would modify the title of the standard by deleting “Florida,” to make the standards generic to cover all avocados. The comment period ended May 29, 2007.

A comment was received on behalf of a foreign government expressing the need for additional time to comment. They requested an extension to the comment period to allow further review of the proposed revisions and their potential impact.

After reviewing the request, AMS is reopening and extending the comment period in order to allow sufficient time for interested persons, including growers, packers, and trade groups to file comments.

Authority: 7 U.S.C. 1621-1627.

Dated: July 9, 2007.
Lloyd C. Day,
Administrator, Agricultural Marketing Service.

[FR Doc. E7-13549 Filed 7-11-07; 8:45 am]

BILLING CODE 3410-02-P